DEPARTMENT OF ENERGY

Federal Energy Regulatory Commission

[Docket No. RP03-23-001]

Columbia Gas Transmission Corporation; Notice of Compliance Filing

December 18, 2002.

Take notice that on December 13, 2002, Columbia Gas Transmission Corporation (Columbia) tendered for filing as part of its FERC Gas Tariff, Second Revised Volume No. 1, Seventh Revised Sheet No. 267; Substitute Second Revised Sheet No. 357; and Substitute Fifth Revised Sheet No. 581, proposed effective date of November 15, 2002.

Columbia states that on October 15, 2002, it submitted a tariff filing to incorporate into its tariff the Commission's recent pronouncements in Tenaska Marketing Ventures v. Northern Border Pipeline Company, 99 FERC 61,182 (2002), and to make its tariff more precise with respect to capacity release rights and obligations and their relationship to a releasing shipper's right of first refusal (ROFR). On November 14, 2002 the Commission issued an order in this proceeding rejecting certain tariff sheets and accepting certain tariff sheets, subject to modification (101 FERC 61,179) (2002)). As directed by the Commission in the November 14 Order, Columbia is submitting revised tariff sheets reflecting tariff changes required by that order.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: December 26, 2002.

Linwood A. Watson, Jr.,
Deputy Secretary.

[FR Doc. 02-32492 Filed 12-23-02; 8:45 am]

BILLING CODE 6717-01-P